DEPARTMENT OF ENERGY

Federal Energy Regulatory Commission

Combined Notice of Filings

Take notice that the Commission has received the following Natural Gas Pipeline Rate and Refund Report filings:

Docket Numbers: RP14-1275-002.

Applicants: Mojave Pipeline Company, L.L.C.

Description: Compliance filing Cost and Revenue Study.

Filed Date: 10/30/20.

Accession Number: 20201030-5055.

Comments Due: 5 p.m. ET 11/20/20.

Docket Numbers: RP21-190-001.

Applicants: Rockies Express Pipeline LLC.

Description: Tariff Amendment: REX 2020-11-12 GT&C Section 13 Revisions Amendment to be effective 12/3/2020.

Filed Date: 11/12/20.

Accession Number: 20201112-5289.

Comments Due: 5 p.m. ET 11/19/20.

Docket Numbers: RP21-207-000.

Applicants: Natural Gas Pipeline Company of America.

Description: § 4(d) Rate Filing: Amendment to a Negotiated Rate Agreement Filing-Spire Marketing Inc to be effective 11/12/2020.

Filed Date: 11/12/20.

Accession Number: 20201112-5114.

Comments Due: 5 p.m. ET 11/24/20.

Docket Numbers: RP21-208-000.

Applicants: Southern Natural Gas Company, L.L.C.

Description: Compliance filing Annual Report on Operational Transactions 2020.

Filed Date: 11/12/20.

Accession Number: 20201112-5120.

Comments Due: 5 p.m. ET 11/24/20.

Docket Numbers: RP21-209-000.

Applicants: Discovery Gas Transmission LLC.

Description: § 4(d) Rate Filing: 2021 HMRE Surcharge Filing to be effective 1/1/2021.

Filed Date: 11/12/20.

Accession Number: 20201112-5160.

Comments Due: 5 p.m. ET 11/24/20.

Docket Numbers: RP21-210-000.

Applicants: Alliance Pipeline L.P.

Description: § 4(d) Rate Filing: Negotiated Rates—Adding K1012327 to be effective 12/1/2020.

Filed Date: 11/12/20.

Accession Number: 20201112-5253.

Comments Due: 5 p.m. ET 11/24/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2020.
Nathaniel J. Davis, Sr.,
Deputy Secretary.

[FR Doc. 2020-25557 Filed 11-18-20; 8:45 am]

BILLING CODE 6717-01-P